DEPARTMENT OF COMMERCE

National Oceanic and Atmospheric Administration

50 CFR Part 660

[Docket No. 210518-0108]

RIN 0648-BK60

Magnuson-Stevens Act Provisions; Fisheries Off West Coast States; Pacific Coast Groundfish Fishery; 2021-2022 Biennial Specifications and Management Measures; Correction

AGENCY: National Marine Fisheries Service (NMFS), National Oceanic and Atmospheric Administration (NOAA), Commerce.

ACTION: Final rule; correcting amendment.

SUMMARY: This action contains corrections to the final rule for the 2021-2022 Biennial Harvest Specifications and Management Measures for groundfish harvested in the U.S. exclusive economic zone off the coasts of Washington, Oregon, and California published on December 11, 2020. This action corrects: The seaward boundary of the non-trawl Rockfish Conservation Area, the southern boundary of the trawl Rockfish Conservation Area, the salmon troll incidental limits title, and republishes two trip limit tables that had text inadvertently cut off.

DATES: This final rule is effective on May 24, 2021.

ADDRESSES: Electronic Access: This rule is accessible via the internet at the Office of the Federal Register website at https://www.federalregister.gov. Background information and documents are available at the Pacific Fishery Management Council's website at http://www.pcouncil.org/.

FOR FURTHER INFORMATION CONTACT: Keeley Kent, phone: 206-247-8252 or email: keeley.kent@noaa.gov.

SUPPLEMENTARY INFORMATION:

Background

The Pacific Coast Groundfish Fishery Management Plan (PCGFMP) and its implementing regulations at title 50 in the Code of Federal Regulations (CFR), part 660, subparts C through G, regulate fishing for over 90 species of groundfish off the coasts of Washington, Oregon, and California. The Pacific Fishery Management Council (Council) develops groundfish harvest specifications and management measures for two-year periods (i.e., a biennium). NMFS published the final rule to implement harvest specifications and management measures for the 2021-2022 biennium for most species managed under the PCGFMP on December 11, 2020 (85 FR 79880). NMFS also published a correction (85 FR 86853, December 31, 2020) and a correcting amendment (86 FR 14379, March 16, 2021) to implement the Council's recommendations for the 2021-2022 harvest specifications and management measures.

Non-Trawl Rockfish Conservation Area Correction

The final rule, published on December 11, 2020 (85 FR 79880), included a typographical error in the seaward boundary line of the Non-Trawl Rockfish Conservation Area (RCA) south of 34°27′ N lat. in Table 2 (South) to Subpart E. The final rule mistakenly amended the seaward boundary of the non-trawl RCA described for the limited entry fixed gear fishery in a way that was inconsistent with the Council-recommended boundaries and was also contradictory to the boundaries of the non-trawl RCA described in open access fishery regulations. This final rule will correct the seaward boundary from the boundary line approximating the 125 fathom (fm) depth contour to the boundary line approximating the 150 fm depth contour. At the April 8-9 and 12-15, 2021 virtual meeting, the Council recommended that this correction be implemented quickly to resolve inconsistencies within the regulations, reduce confusion among members of industry, and to promote ease of enforcement for the boundaries of the non-trawl RCA.

Trawl Rockfish Conservation Area Correction

The final rule also included a typographical error in the southern boundary line of the Trawl RCA in Table 1 (North) to part 660, subpart D. The final rule mistakenly amended the southern boundary of the trawl RCA in a way that was inconsistent with the Council-recommended boundaries that were established previously under Amendment 28 to the PCGFMP (84 FR 63966; November 19, 2019) and were not recommended for change through the 2021-2022 harvest specifications rulemaking. This final rule will correct the southern boundary from 45°46′ N latitude to 46°16′ N latitude, which aligns with the Washington/Oregon border.

Salmon Troll Incidental Allowance Correction

The final rule included a typographical error in the salmon troll incidental limits title in Table 3 South to Subpart F. The table in the final rule incorrectly referenced incidental retention of yellowtail and incidental retention of lingcod in the title of the section. Salmon trollers are not allowed to retain incidentally caught lingcod south of 40°10′ N latitude, as was correctly described in the description of the limit. This correction of the title would address that inconsistency.

Other Errors in Table Readability

This correction also republishes Table 2 North and Table 3 South as the final rule had a row of cut off text in each.

Classification

Pursuant to 5 U.S.C. 553(b)(B), the Assistant Administrator for Fisheries (AA) finds there is good cause to waive prior notice and an opportunity for public comment on this action, as notice and comment would be unnecessary and contrary to public interest. Notice and comment are unnecessary and contrary to the public interest because this action corrects inadvertent errors related to the December 11, 2020 final rule (85 FR 79880). Immediate correction of the errors is necessary to prevent confusion among participants in the fishery. To effectively correct the errors, the changes in this action must be effective upon publication as the fishery has already begun. Thus, there is not sufficient time for notice and comment. In addition, notice and comment is unnecessary because this notice makes only minor changes to correct inadvertent errors related to the December 11, 2020 final rule (85 FR 79880). These corrections will not affect the results of analyses conducted to support management decisions in the Pacific Coast groundfish fishery. These corrections are consistent with the Council's intent for regulations and the public expects the regulations to be written as in the correction. No change in operating practices in the fishery is required.

For the same reasons stated above, the AA has determined good cause exists to waive the 30-day delay in effectiveness pursuant to 5 U.S.C. 553(d). This notice makes only minor corrections to the final rule which was effective January 1, 2021. Delaying effectiveness of these corrections would result in conflicts in the regulations and confusion among fishery participants. Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This final rule is not significant under Executive Order 12866.

This final rule contains no information collection requirements under the Paperwork Reduction Act of 1995.

List of Subjects in 50 CFR Part 660

Fisheries, Fishing, and Indian Fisheries.

Dated: May 18, 2021.
Samuel D. Rauch, III,
Deputy Assistant Administrator for Regulatory Programs, National Marine Fisheries Service.

For the reasons set out in the preamble, 50 CFR part 660 is amended as follows:

BILLING CODE 3510-22-P

PART 660—FISHERIES OFF WEST COAST STATES

1. The authority citation for part 660 continues to read as follows:

Authority: 16 U.S.C. 1801 et seq., 16 U.S.C. 773 et seq., and 16 U.S.C. 7001 et seq.

2. Revise Table 1 (North) to part 660, subpart D, to read as follows:

3. Revise Table 2 (North) to part 660, subpart E, to read as follows:

4. Revise Table 2 (South) to part 660, subpart E, to read as follows:

5. Revise Table 3 (South) to part 660, subpart F, to read as follows:

[FR Doc. 2021-10822 Filed 5-21-21; 8:45 am]

BILLING CODE 3510-22-C